DEPARTMENT OF TRANSPORTATION

Federal Aviation Administration

14 CFR Part 39

[Docket No. FAA-2019-0673; Product Identifier 2019-NM-101-AD; Amendment 39-19832; AD 2020-02-20]

RIN 2120-AA64

Airworthiness Directives; Airbus SAS Airplanes

AGENCY: Federal Aviation Administration (FAA), Department of Transportation (DOT).

ACTION: Final rule.

SUMMARY: The FAA is superseding Airworthiness Directive (AD) 2014-24-07, which applied to certain Airbus SAS Model A318 series airplanes; Model A319-111, -112, -113, -114, -115, -131, -132, and -133 airplanes; A320-211, -212, -214, -231, -232, and -233 airplanes; and Model A321-111, -112, -131, -211, -212, -213, -231, and -232 airplanes. AD 2014-24-07 required repetitive rototest inspections for cracking; corrective actions if necessary; and modification of the torsion box, which terminates the repetitive inspections. This AD continues to require the actions in AD 2014-24-07, with certain revised compliance times, as specified in a European Union Aviation Safety Agency (EASA) AD, which is incorporated by reference. This AD was prompted by a report of a crack found in the side box beam flange of the fuselage at the frame (FR) 43 level during a fatigue test campaign. The FAA is issuing this AD to address the unsafe condition on these products.

DATES: This AD is effective March 20, 2020.

The Director of the Federal Register approved the incorporation by reference of certain publication listed in this AD as of March 20, 2020.

ADDRESSES: For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2019-0673.

Examining the AD Docket

You may examine the AD docket on the internet at https://www.regulations.gov by searching for and locating Docket No. FAA-2019-0673; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

The EASA, which is the Technical Agent for the Member States of the European Union, has issued EASA AD 2019-0122, dated June 4, 2019 (“EASA AD 2019-0122”) (also referred to as the Mandatory Continuing Airworthiness Information, or “the MCAI”), to correct an unsafe condition for certain Airbus SAS Model A318 airplanes; Model A319-111, -112, -113, -114, -115, -131, -132, and -133 airplanes; A320-211, -212, -214, -216, -231, -232, and -233 airplanes; and Model A321-111, -112, -131, -211, -212, -213, -231, and -232 airplanes. Model A320-215 airplanes are not certified by the FAA and are not included on the U.S. type certificate data sheet; this AD therefore does not include those airplanes in the applicability.

The FAA issued a notice of proposed rulemaking (NPRM) to amend 14 CFR part 39 to supersede AD 2014-24-07, Amendment 39-18040 (79 FR 72124, December 5, 2014) (“AD 2014-24-07”). AD 2014-24-07 applied to certain Airbus SAS Model A318 series airplanes; Model A319-111, -112, -113, -114, -115, -131, -132, and -133 airplanes; A320-211, -212, -214, -231, -232, and -233 airplanes; and Model A321-111, -112, -131, -211, -212, -213, -231, -232 airplanes. The NPRM published in the Federal Register on September 6, 2019 (84 FR 46900). The NPRM was prompted by a report of a crack found in the side box beam flange of the fuselage at the FR 43 level during a fatigue test campaign. The NPRM proposed to continue to require repetitive rototest inspections for cracking; corrective actions if necessary; and modification of the torsion box, which would terminate the repetitive inspections. The NPRM also proposed to require certain revised compliance times. The FAA is issuing this AD to address cracking in the side box beam flange of the fuselage, which could affect the structural integrity of the airplane.

Comments

The FAA gave the public the opportunity to participate in developing this final rule. The following presents the comments received on the NPRM and the FAA's response to each comment.

Support for the NPRM

United Airlines stated its support for the NPRM.

Request To Use a Certain Revision of the Service Information

JetBlue requested that Airbus Service Bulletin A320-53-1251, Revision 03, dated September 19, 2016, and not Airbus Service Bulletin A320-53-1251, Revision 04, dated May 17, 2019, be used for accomplishing the actions specified in the proposed AD and paragraphs (2) and (3) of EASA AD 2019-0122. JetBlue stated that Airbus Service Bulletin A320-53-1251, Revision 04, dated May 17, 2019, does not require any additional work compared to Airbus Service Bulletin A320-53-1251, Revision 03, dated September 19, 2016.

The FAA disagrees with the commenter's request. Paragraph (2) of EASA AD 2019-0122 specifically requires compliance in accordance with Airbus Service Bulletin A320-53-1251, Revision 04, dated May 17, 2019, due to changes highlighted in the Accomplishment Instructions for certain configurations. However, paragraph (5) of EASA AD 2019-0122 provides credit for Airbus Service Bulletin A320-53-1251, dated November 16, 2012; Airbus Service Bulletin A320-53-1251, Revision 01, dated October 18, 2013; Airbus Service Bulletin A320-53-1251, Revision 02, dated February 11, 2016; and Airbus Service Bulletin A320-53-1251, Revision 03, dated September 19, 2016; if the actions are accomplished before the effective date of the AD. This AD provides the same allowance for credit since EASA AD 2019-0122 is incorporated by reference. This AD has not been changed in this regard.

Request To Clarify the Applicability

Delta Airlines (DAL) requested that certain language be added to the applicability paragraph of the proposed AD. DAL stated that paragraph (c) of the proposed AD applies to certain Model A310, A320, and A321 family airplanes as identified in EASA AD 2019-0122. DAL stated that EASA AD 2019-0122 provides additional applicability details, namely exclusions of manufacturer serial numbers based upon a certain Airbus modification embodied in production. DAL suggested that similar language be added to paragraph (c) of the proposed AD.

The FAA agrees to clarify the applicability of this AD. By incorporation by reference of EASA AD 2019-0122 into this AD, the same production modification applicability exceptions identified in EASA AD 2019-0122 apply to this AD. These exceptions are addressed by the statement “. . . as identified in European Aviation Safety Agency (EASA) AD 2019-0122” in paragraph (c) of this AD. We have not changed this AD in this regard.

In addition, this AD and EASA AD 2019-0122 are not applicable to Model A310 airplanes as the commenter stated. This AD has not been changed in this regard.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2019-0122 describes procedures for repetitive rototest inspections for cracking; corrective actions if necessary; and modification of the torsion box, which terminates the repetitive inspections. This material is reasonably available because the interested parties have access to it through their normal course of business or by the means identified in the ADDRESSES section.

Costs of Compliance

The FAA estimates that this AD affects 851 airplanes of U.S. registry. The FAA estimates the following costs to comply with this AD:

Estimated Costs for Required Actions
Action | Labor cost | Parts cost | Cost per product | Cost on U.S. operators
Retained actions from AD 2014-24-07 | 178 work-hours × $85 per hour = $15,130 | $31,334 | $46,464 | $39,540,864

The new requirements of this AD add no new economic burden.

The FAA has received no definitive data that would enable the agency to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-24-07, Amendment 39-18040 (79 FR 72124, December 5, 2014), and adding the following new AD:

2020-02-20 Airbus SAS: Amendment 39-19832; Docket No. FAA-2019-0673; Product Identifier 2019-NM-101-AD.

(a) Effective Date

This AD is effective March 20, 2020.

(b) Affected ADs

This AD replaces AD 2014-24-07, Amendment 39-18040 (79 FR 72124, December 5, 2014) (“AD 2014-24-07”).

(c) Applicability

This AD applies to Airbus SAS airplanes specified in paragraphs (c)(1) through (4) of this AD, certificated in any category, as identified in European Aviation Safety Agency (EASA) AD 2019-0122, dated June 4, 2019 (“EASA AD 2019-0122”).

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 53, Fuselage.

(e) Reason

This AD was prompted by a report of a crack found in the side box beam flange of the fuselage at the frame (FR) 43 level during a fatigue test campaign. The FAA is issuing this AD to address cracking in the side box beam flange of the fuselage, which could affect the structural integrity of the airplane.

(f) Compliance

Comply with this AD within the compliance times specified, unless already done.

(g) Requirements

Except as specified in paragraph (h) of this AD: Comply with all required actions and compliance times specified in, and in accordance with, EASA AD 2019-0122.

(h) Exceptions to EASA AD 2019-0122

(1) For purposes of determining compliance with the requirements of this AD: Where EASA AD 2019-0122 refers to its effective date, this AD requires using the effective date of this AD. However, where Table 1 of EASA AD 2019-0122 provides compliance times for group 1B airplanes as “[w]ithin 3,000 FC or 6,000 FH” after a given date, this AD requires that those compliance times be calculated 3,000 flight cycles or 6,000 flight hours, “whichever occurs first” after January 9, 2015 (the effective date of AD 2014-24-07).

(2) The “Remarks” section of EASA AD 2019-0122 does not apply to this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0122 that contains RC procedures and tests, except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Sanjay Ralhan, Aerospace Engineer, International Section, Transport Standards Branch, FAA, 2200 South 216th St., Des Moines, WA 98198; telephone and fax 206-231-3223.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 20, 2020.

(i) European Union Aviation Safety Agency (EASA) AD 2019-0122, dated June 4, 2019.

(ii) [Reserved]

(4) For information about EASA AD 2019-0122, contact the EASA, Konrad-Adenauer-Ufer 3, 50668 Cologne, Germany; telephone +49 221 89990 6017; email ADs@easa.europa.eu; internet www.easa.europa.eu. You may find this EASA AD on the EASA website at https://ad.easa.europa.eu.

(5) You may view this material at the FAA, Transport Standards Branch, 2200 South 216th St., Des Moines, WA. For information on the availability of this material at the FAA, call 206-231-3195. This material may be found in the AD docket on the internet at https://www.regulations.gov by searching for and locating Docket No. FAA-2019-0673.

(6) You may view this material that is incorporated by reference at the National Archives and Records Administration (NARA). For information on the availability of this material at NARA, email fedreg.legal@nara.gov, or go to: https://www.archives.gov/federal-register/cfr/ibr-locations.html.

Issued on January 29, 2020.
Gaetano A. Sciortino,
Deputy Director for Strategic Initiatives, Compliance & Airworthiness Division, Aircraft Certification Service.

[FR Doc. 2020-02974 Filed 2-13-20; 8:45 am]

BILLING CODE 4910-13-P